DEPARTMENT OF THE TREASURY

Internal Revenue Service

26 CFR Part 1

[TD 8933]

RIN 1545-AX33

Qualified Transportation Fringe Benefits; Correction

AGENCY: Internal Revenue Service (IRS), Treasury.

ACTION: Correction to final regulations.

SUMMARY: This document contains corrections to final regulations that were published in the Federal Register on Thursday, January 11, 2001 (66 FR 2241), that ensure that transportation benefits provided to employees are excludable from gross income.

DATES: This correction is effective January 11, 2001.

FOR FURTHER INFORMATION CONTACT: John Richards at (202) 622-6040 (not a toll-free number).

SUPPLEMENTARY INFORMATION:

Background

The final regulations that are the subject of these corrections are under section 132(f) of the Internal Revenue Code.

Need for Correction

As published, the final regulations (TD 8933), do not address what taxable year is used for purposes of the applicability dates in the regulations. These final regulations are being corrected to clarify that the applicability dates in the regulations are based on the employee taxable year and that, for this purpose, an employer may assume that the employee taxable year is the calendar year.

Correction of Publication

Accordingly, the publication of the final regulations (TD 8933), which were the subject of FR Doc. 01-294, is corrected as follows:

§ 1.132-9 [Corrected]

1. On page 2251, column 3, § 1.132-9(b), paragraph (a) of A-25, last two lines of the paragraph, the language “section is applicable for taxable years beginning after December 31, 2001.” is corrected to read “section is applicable for employee taxable years beginning after December 31, 2001. For this purpose, an employer may assume that the employee taxable year is the calendar year.”.

2. On page 2251, column 3, § 1.132-9(b), paragraph (b) of A-25, last three lines of the paragraph, the language “transit passes are readily available) is effective for taxable years beginning after December 31, 2003.” is corrected to read “transit passes are readily available) is applicable for employee taxable years beginning after December 31, 2003. For this purpose, an employer may assume that the employee taxable year is the calendar year.”.

LaNita Van Dyke,
Acting Chief, Regulations Unit, Office of Special Counsel (Modernization & Strategic Planning).

[FR Doc. 01-8137 Filed 4-5-01; 8:45 am]

BILLING CODE 4830-01-U